DEPARTMENT OF LABOR

Occupational Safety and Health Administration

[Docket No. ICR-1218-0072(2005)]

Hazard Communication Standard; Extension of the Office of Management and Budget's (OMB) Approval of Information Collection (Paperwork) Requirements

AGENCY: Occupational Safety and Health Administration (OSHA), Labor.

ACTION: Request for comment.

SUMMARY: OSHA solicits comments concerning its proposal to extend OMB approval of the information collection requirements contained in the Hazard Communication Standard (29 CFR 1910.1200; 1915.1200; 1917.28; 1918.90; 1926.59; and 1928.21).

DATES: Comments must be submitted by the following dates:

Hard copy: Your comments must be submitted (postmarked or received) by October 31, 2005.

Facsimile and electronic transmission: Your comments must be received by October 31, 2005.

ADDRESSES: You may submit comments, identified by OSHA Docket No. ICR-1218-0072(2005), by any of the following methods:

Regular mail, express delivery, hand delivery, and messenger service: Submit your comments and attachments to the OSHA Docket Office, Room N-2625, U.S. Department of Labor, 200 Constitution Avenue, NW., Washington, DC 20210; telephone (202) 693-2350 (OSHA's TTY number is (877) 889-5627). OSHA Docket Office and Department of Labor hours are 8:15 a.m. to 4:45 p.m. e.t.

Facsimile: If your comments are 10 pages or fewer in length, including attachments, you may fax them to OSHA Docket Office at (202) 693-1648.

Electronic: You may submit comments through the Internet at http://ecomments.osha.gov/. Follow instructions on the OSHA Web page for submitting comments.

Docket: For access to the docket to read or download comments or background materials, such as the complete Information Collection Request (ICR) (containing the Supporting Statement, OMB-83-I Form, and attachments), go to OSHA's Web page at http://www.OSHA.gov. In addition, the ICR, comments, and submissions are available for inspection and copying at the OSHA Docket Office at the above address. You also may contact Todd Owen at the address below to obtain a copy of the ICR.

(For additional information on submitting comments, please see the “Public Participation” heading in the SUPPLEMENTARY INFORMATION section of this document.)

FOR FURTHER INFORMATION CONTACT: Todd Owen, Directorate of Standards and Guidance, OSHA, Room N-3609, U.S. Department of Labor, 200 Constitution Avenue, NW., Washington, DC 20210; telephone (202) 693-2222.

SUPPLEMENTARY INFORMATION:

I. Background

The Department of Labor, as part of its continuing effort to reduce paperwork and respondent (i.e., employer) burden, conducts a preclearance consultation program to provide the public with an opportunity to comment on proposed and continuing information collection requirements in accordance with the Paperwork Reduction Act of 1995 (PRA-95) (44 U.S.C. 3506(c)(2)(A)). This program ensures that information is in the desired format, reporting burden (time and costs) is minimal, collection instruments are clearly understood, and OSHA's estimate of the information collection burden is accurate. The Occupational Safety and Health Act of 1970 (the Act) (29 U.S.C. 651 et seq.) authorizes information collection by employers as necessary or appropriate for enforcement of the Act or for developing information regarding the causes and prevention of occupational injuries, illnesses, and accidents (29 U.S.C. 657).

The information collection requirements in the Hazard Communication Standard (“the Standard”) ensure that the hazards of chemicals produced or imported are evaluated, and that information concerning these hazards is transmitted to downstream employers and their employees. The Standard requires chemical manufacturers and importers to evaluate chemicals they produce or import to determine if they are hazardous; for those chemicals determined to be hazardous, they must develop material safety data sheets and warning labels. Employers are required to establish hazard communication programs to transmit information on the hazards of chemicals to their employees by means of labels on containers, material safety data sheets, and training programs.

Implementation of these collection of information requirements will ensure that employees understand the hazards and identities of the chemicals to which they are exposed, thereby reducing the incidence of chemically-related occupational illnesses and injuries.

II. Special Issues for Comment

OSHA has a particular interest in comments on the following issues:

• Whether the proposed information collection requirements are necessary for the proper performance of the Agency's functions, including whether the information is useful;

• The accuracy of OSHA's estimate of the burden (time and costs) of the information collection requirements, including the validity of the methodology and assumptions used;

• The quality, utility, and clarity of the information collected; and

• Ways to minimize the burden on employers who must comply; for example, by using automated or other technological information collection and transmission techniques.

III. Proposed Actions

OSHA proposes to extend the Office of Management and Budget's (OMB) approval of the collection of information (paperwork) requirements necessitated by the Hazard Communication Standard (29 CFR 1910.1200; 1915.1200; 1917.28; 1918.90; 1926.59; and 1928.21). The Agency is requesting a 3 million hour increase adjustment, mainly as a result of increasing the estimated number of affected nonmanufacturing establishments.

The Agency will summarize the comments submitted in response to this notice, and will include this summary in its request to OMB to extend the approval of the collection of information requirements contained in the Standard.

Type of Review: Extension of currently approved information collection requirements.

Title: Hazard Communication Standard (29 CFR 1910.1200; 1915.1200; 1917.28; 1918.90; 1926.59; and 1928.21).

OMB Number: 1218-0072.

Affected Public: Business or other for-profits; not-for-profit institutions; Federal government; State, local, or tribal governments.

Number of Respondents: 3,238,532.

Frequency of Response: On occasion.

Total Responses: 475,375,321.

Average Time per Response: Varies from 12 seconds for establishments to label an in-plant container to 8 hours for manufacturers or importers to conduct a hazard determination.

Estimated Total Burden Hours: 11,000,793.

Estimated Cost (Operation and Maintenance): $1,047,822.

IV. Public Participation—Submission of Comments on This Notice and Internet Access to Comments and Submissions

You may submit comments and supporting materials in response to this notice by (1) hard copy, (2) fax transmission (facsimile), or (3) electronically through the OSHA Web page. Because of security-related problems, significant delays may occur in the receipt of comments by regular mail. Please contact the OSHA Docket Office at (202) 693-2350 (TTY (877) 889-5627) for information about security procedures concerning the delivery of submissions by express delivery, hand delivery, and courier service.

All comments, submissions and background documents are available for inspection and copying at the OSHA Docket Office at the above address. Comments and submissions posted on OSHA's Web site are available at http://www.OSHA.gov. Contact the OSHA Docket Office for information about materials not available through the OSHA Web page, and for assistance using the Web page to locate docket submissions.

Electronic copies of this Federal Register notice, as well as other relevant documents, are available on OSHA's Web page. Since all submissions become public, private information such as social security numbers should not be submitted.

V. Authority and Signature

Jonathan L. Snare, Deputy Assistant Secretary of Labor for Occupational Safety and Health, directed the preparation of this notice. The authority for this notice is the Paperwork Reduction Act of 1995 (44 U.S.C. 3506 et seq.), and Secretary of Labor's Order No. 5-2002 (67 FR 65008).

Signed at Washington, DC, on August 29, 2005.
Jonathan L. Snare,
Deputy Assistant Secretary of Labor.

[FR Doc. 05-17439 Filed 8-31-05; 8:45 am]

BILLING CODE 4510-26-M